DEPARTMENT OF INTERIOR

National Park Service

[NPS-WASO-NRSS-1111-8897; 2350-N003-NAZ]

Agency Information Collection Activities: Proposed Reinstatement with Change of a Previously Approved Collection; Visibility Valuation Survey: Pilot Study

AGENCY: U.S. Department of the Interior, National Park Service.

ACTION: Notice and request for comments.

SUMMARY: To comply with the Paperwork Reduction Act of 1995 (PRA), we (the National Park Service) are notifying the public that we have submitted to the Office of Management and Budget (OMB) an information collection request (ICR) for a proposed new collection. This notice provides the public and other Federal agencies an opportunity to comment on the paperwork burden of this collection. To comply with the Paperwork Reduction Act of 1995 and as a part of our continuing efforts to reduce paperwork and respondent burden, we invite the general public and other federal agencies to comment on this ICR. We may not conduct or sponsor and a person is not required to respond to a collection unless it displays a currently valid OMB control number.

DATES: To ensure that your comments on this ICR are considered, please submit them on or before December 23, 2011.

ADDRESSES: Please submit written comments on this information collection directly to the Office of Management and Budget (OMB) Office of Information and Regulatory Affairs, Attention: Desk Officer for the Department of the Interior via email to OIRA_DOCKET@omb.eop.gov or fax at (202) 395-5806; and identify your submission as 1024-0255. Please also send a copy of your comments to Phadrea Ponds, Information Collections Coordinator, National Park Service, 1201 Oakridge Drive, Fort Collins, CO 80525 (mail); or phadrea_ponds@nps.gov (email).

FOR FURTHER INFORMATION CONTACT: Susan Johnson, National Park Service Air Resources Division, U.S. National Park Service, 12795 W. Alameda Parkway, P.O. Box 25287, Denver, Colorado 80225 (mail); susan_Johnson@nps.gov (email); or (303) 987-6694 (telephone).

I. Abstract

The Clean Air Act (Sections 169A, 169B, and 110(a)(2)(j) charges the NPS with an “affirmative responsibility to protect air quality related values (including visibility).” The NPS, believes that the value of visibility changes should be represented in cost-benefit analyses performed regarding state and federal efforts that may affect visibility (including the Regional Haze Rule, 40 CFR part 51). Updated estimates of visibility benefits are required because the studies conducted in the 1970s and 1980s are not adequate to provide a baseline of current visibility conditions in national parks and wilderness.

The NPS plans to conduct a nationwide stated preference survey to estimate the value of visibility changes in national parks and wilderness areas. Stated preference surveys are carefully designed to elicit respondents' willingness to pay for improvements in environmental quality. A stated preference survey will be required for the general population as many U.S. citizens may be willing to pay to improve or maintain visibility at national parks and wilderness areas, however they may not use these areas. Stated preference surveys are the only methodology available to estimate these non-use values.

Survey development and pre-testing have already been conducted under a previous ICR (OMB Control Number 1024-0255). The purpose of this information collection is to conduct a pilot study to test the survey instrument and implementation procedures prior to the full survey. After the pretest is completed, the NPS will submit a revised Information Collection Request (ICR) to OMB for the full survey.

II. Data

OMB Number: 1024-0255.

Title: Visibility Valuation Survey Pilot Study.

Type of Request: This is a reinstatement of a previously approved collection.

Affected Public: Individuals or households.

Respondent Obligation: Voluntary.

Estimated Number of Respondents: 900 mail and internet survey; 110 non-response survey.

Estimated Time and frequency of Response: This is a one-time survey estimated to take 20 minutes per respondent to complete the mail or internet survey and 5 minutes to complete the non-response survey.

Estimated Total Annual Burden Hours: 309 hours.

III. Request for Comments

Comments are invited on: (1) The practical utility of the information being gathered; (2) the accuracy of the burden hour estimate; (3) ways to enhance the quality, utility, and clarity of the information to be collected; and (4) ways to minimize the burden to respondents, including use of automated information techniques or other forms of information technology. Comments submitted in response to this notice will be summarized and/or included in the request for OMB approval. All comments will become a matter of public record. While you can ask us in your comment to withhold personal identifying information from public review, we cannot guarantee that we will be able to do so.

Dated: November 15, 2011.
Robert M. Gordon,
Information Collection Clearance Officer, National Park Service.

[FR Doc. 2011-30168 Filed 11-22-11; 8:45 am]

BILLING CODE 4312-52-P